DEPARTMENT OF LABOR

Office of the Secretary

Submission for OMB Review: Comment Request

October 11, 2007.

The Department of Labor (DOL) hereby announces the submission of the following public information collection request (ICR) to the Office of Management and Budget (OMB) for review and approval in accordance with the Paperwork Reduction Act of 1995 (Pub. L. 104-13, 44 U.S.C. chapter 35). A copy of this ICR, with applicable supporting documentation; including among other things a description of the likely respondents, proposed frequency of response, and estimated total burden may be obtained from the RegInfo.gov Web site at http://www.reginfo.gov/public/do/PRAMain or by contacting Darrin King on 202-693-4129 (this is not a toll-free number) / e-mail: king.darrin@dol.gov.

Comments should be sent to Office of Information and Regulatory Affairs, Attn: Carolyn Lovett, OMB Desk Officer for the Employment Standards Administration (ESA), Office of Management and Budget, Room 10235, Washington, DC 20503, Telephone: 202-395-7316 / Fax: 202-395-6974 (these are not toll-free numbers), e-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment Standards Administration.

Type of Review: Extension without change of currently approved collection.

Title: OFCCP Complaint Form.

OMB Control Number: 1215-0131.

Form Numbers: CC-4.

Estimated Number of Annual Respondents: 594.

Estimated Total Annual Burden Hours: 760.

Total Estimated Annual Cost Burden: $261.

Affected Public: Individuals or households.

Description: The complaint form (CC-4) is prepared by individuals who allege illegal employment discrimination by Federal contractors. The complaint information is utilized by the Department's Office of Contract Compliance Programs (OFCCP) field personnel as the first step in the initiation of a discrimination complaint investigation. If the complaint states a case of alleged discrimination under one of OFCCP's equal employment opportunity programs ¹ and jurisdiction is established, then a complaint investigation is initiated. A standardized form for collecting complaint information promotes efficient use of agency resources by ensuring that individual complaint filers provide the information required to initiate a discrimination complaint investigation.

¹ Executive Order 11246, as amended and implanting regulations at 41 CFR § 60-1.23(a); The Vietnam Era Veterans' Readjustment Assistance Act of 1974, as amended (38 U.S.C. § 4212(b)) and implementing regulations at 41 CFR § 60-250.61(b); and Section 503 of the Rehabilitation Act of 1973, as amended (29 U.S.C. § 793(b) and implementing regulations at 41 CFR § 60-741.61(c).

Darrin A. King,
Acting Departmental Clearance Officer.

[FR Doc. E7-20438 Filed 10-16-07; 8:45 am]

BILLING CODE 4510-CM-P